DEPARTMENT OF THE INTERIOR

Bureau of Land Management

[AK-930-04-1310-DB]

Notice of Availability and Announcement of Public Subsistence-Related Hearings; Alpine Satellite Development Plan, Draft Environmental Impact Statement; National Petroleum Reserve-Alaska, and Colville River Delta

AGENCY: Bureau of Land Management, Interior.

ACTION: Notice of availability and announcement of public subsistence-related hearings: Alpine Satellite Development Plan, Draft Environmental Impact Statement; National Petroleum Reserve-Alaska, and Colville River Delta.

SUMMARY: The Bureau of Land Management (BLM) announces the availability of the Alpine Satellite Development Plan Draft Environmental Impact Statement (DEIS). The DEIS provides National Environmental Policy Act (NEPA) analysis and examines potential impacts of ConocoPhillips Alaska, Inc.'s (CPAI) proposed action to develop five satellite oil accumulations in the Northeast National Petroleum Reserve-Alaska (NPR-A) and the adjacent Colville River Delta. CPAI proposes to develop five drilling pads and associated access roads, bridges, airstrips, pipelines and power lines. The pads are termed CD-3, CD-4, CD-5, CD-6, and CD-7. In the Colville River Delta, CD-3 is on State of Alaska land and CD-4 is on land owned by Kuukpik Corporation, a Native-owned corporation created under the authority of the Alaska Native Claims Settlement Act for the village of Nuiqsut. CD-5 is on land conveyed to Kuukpik within the NPR-A; CD-6 and CD-7 are on lands administered by the BLM in the NPR-A. The company proposes to place 20 to 30 wells on each pad and to transport the unprocessed, three-phase (oil, gas, and water) drilling product to the Alpine Central Processing Facility for processing. Processed oil would be placed in the existing pipeline system for transport to the Trans-Alaska Pipeline System.

The DEIS evaluates a range of alternatives, consistent with applicable law, by which to accomplish the proposed action while mitigating adverse impacts. Four action alternatives that fulfill the purpose and need of the proposed action are presented and analyzed. The No Action Alternative is presented as a benchmark, enabling the public and decision makers to compare the magnitude of environmental effects of the action alternatives. The alternatives cover the full range of reasonable development scenarios. The Agency's preferred alternative has not been identified in the DEIS, but will be identified in the final EIS.

Also included in the DEIS is an analysis of full-field development (FFD) for an 890,000-acre area that includes the Colville River Delta west of its eastern-most channel and extends west to the vicinity of the mouth of the Kogru River on the west side of Harrison Bay and south from the Kogru River mouth for approximately 45 miles. Though FFD is not proposed at this time, the BLM considers it likely that development besides that currently proposed by CPAI will occur in this area over the next 20 years. As a result, the DEIS evaluates and analyzes alternative development options for potential future development. This approach gives the public and decision makers a comprehensive overview of proposed and potential future development in the area. An agency-preferred alternative or Record of Decision will not be developed for FFD. Decisions on future proposals for developments in the area would be addressed through additional NEPA analysis tiered or incorporated by reference to the final EIS.

Section 810 of the Alaska National Lands Conservation Act requires the BLM to evaluate the effects of plans presented in this DEIS on subsistence activities in the area of the proposed action and alternatives, and to hold public hearings if it finds that any alternative may significantly restrict subsistence activities. The analysis of environmental consequences indicates the proposed action and two alternatives may significantly restrict subsistence activities. In addition, all alternatives may significantly restrict subsistence in the cumulative case. Therefore, the BLM is holding public hearings on subsistence in conjunction with the public meetings discussed below.

DATES: Written comments on the DEIS will be accepted until March 1. Public meetings or hearings are scheduled for 7 to 9 p.m. at the following locations and dates:

Barrow, Alaska, February 9, 2004, North Slope Borough Assembly Chambers

Nuiqsut, Alaska, February 10, 2004, Kisik Community Center

Atqasuk, Alaska, February 12, 2004, Village Community Center

Anaktuvuk Pass, Alaska, February 17, 2004, Village Community Center

Fairbanks, Alaska, February 18, 2004, Noel Wein Public Library

Anchorage, Alaska, February 23, 2004, Wilda Marston Theater, Z.J. Loussac Library

An open house will precede each meeting at 5:30. The above meetings, any changes or rescheduling of the above meetings, and any additional public meetings will be announced through public notices, media news releases, and/or other mailings.

ADDRESSES: Written comments should be sent to: Alpine Satellite Development Plan EIS, Entrix Project Office, 3701 E. Tudor Road, Suite 208, Anchorage, Alaska, 99507; faxed to 907-563-0439; hand delivered to Entrix, Inc., 3701 E. Tudor Road, Suite 208, Anchorage, Alaska, or to the BLM Public Information Center in the Federal Building, 222 W. 7th Avenue, Anchorage, Alaska; or forwarded electronically to the project Web site at http://www.alpine-satellites-eis.com. Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses will be available for public inspection in their entirety. The DEIS will be available in either hard copy or on compact disk at Entrix, Inc., 3701 E. Tudor Road, Suite 208, Anchorage, Alaska, 99507; and the Alaska State Office, Public Information Center at 222 West 7th Avenue, Anchorage, Alaska, 99513-7599. Copies of the DEIS will also be available for public review at the following locations: City of Anaktuvuk Pass, Anaktuvuk Pass, Alaska; Loussac Library and Alaska Resources Library and Information Service, Anchorage, Alaska; City of Atqasuk, Atqasuk, Alaska; Tuzzy Public Library, Barrow, Alaska; City of Nuiqsut, Nuiqsut, Alaska; and Noel Wein Library, Fairbanks, Alaska. The entire document can be reviewed at the project Web site at http://www.alpine-satellites-eis.com.

FOR FURTHER INFORMATION CONTACT: Jim Ducker, BLM Alaska State Office, 907-271-3130; e-mail Jim_Ducker@ak.blm.gov.

SUPPLEMENTARY INFORMATION: Public participation has occurred throughout the period since the BLM published a Notice of Intent (NOI) in the Federal Register on February 18, 2003, announcing the intent to begin preparation of the Alpine Satellite Development Plan EIS. Public meetings were held in Anchorage, Barrow, Nuiqsut, and Fairbanks between March 6 and March 20, 2003. The BLM and four cooperating agencies—U.S. Army Corps of Engineers (USACE), U.S. Environmental Protection Agency (USEPA), U.S. Coast Guard (USCG), and the State of Alaska have also conducted government-to-government consultation with three Native governments: the Native Village of Barrow, the Inupiaq Community of the Arctic Slope, and the Native Village of Nuiqsut, and have worked closely with the North Slope Borough, the local government of Nuiqsut, and other Federal agencies on the DEIS.

The development on Federal lands within NPR-A is subject to the management direction provided by the BLM's Record of Decision for the Northeast National Petroleum Reserve-Alaska Integrated Activity Plan/ Environmental Impact Statement (Northeast NPR-A IAP/EIS). The Record of Decision for this development EIS may amend the Northeast NPR-A IAP/EIS. Any amendment, including exceptions to requirements to the Northeast NPR-A IAP/EIS, would be limited to those changes necessary for the development authorized by BLM following completion of the final EIS and will not constitute a general amendment of the Northeast NPR-A IAP/EIS.

EPA is a cooperating agency because it potentially has a permitting decision to make on the disposal of wastewater from camps under an NPDES permit. The alternatives presented in the DEIS discuss the use of a general permit or an individual permit. The USACE as a cooperating agency will review the proposed project pursuant to relevant Federal jurisdiction.

Dated: December 8, 2003.
Henri R. Bisson,
State Director.

[FR Doc. 04-2059 Filed 1-30-04; 8:45 am]

BILLING CODE 4310-JA-P